DEPARTMENT OF HEALTH AND HUMAN SERVICES

Request for Information: Development and Implementation of Electronic Benefits Transfer System for Victims of Disaster To Receive Federal and State Benefits

AGENCY: Department of Health and Human Services (HHS).

ACTION: Request for information.

SUMMARY: HHS invites all comments, suggestions, recommendations and creative ideas on the feasibility of establishing a system of Electronic Benefits Transfer (EBT) as a simple, comprehensive, and efficient means to deliver to disaster victims the Federal, State and local human services for which they qualify. This Request for Information (RFI) is intended to provide ideas for consideration, and may or may not result in a future procurement.

DATES: Responses should be submitted to the Department of Health and Human Services (HHS) on or before 5 p.m., EDT, August 14, 2006.

ADDRESSES: Electronic responses are preferred and should submitted at: http://www.hhs.gov/emergency/rfi/. Please click on “E-mail comments now.” Written comments will also be accepted. Please send to: Department of Health and Human Services, Room 404E, 200 Independence Ave, SW., Washington, DC 20201, Attention: DES RFI Response.

Public Access: This RFI and all responses will be made available to the public in the HHS Public Reading Room, 200 Independence Avenue, SW., Washington, DC. Please call 202-690-7453 between 9 a.m. and 5 p.m. EDT, Monday through Friday, except Federal holidays, to arrange access to the Public Reading Room. The RFI and all responses will also be made available on the World Wide Web at http://www.hhs.gov/emergency/rfi. Any information you submit, including addresses, phone numbers, e-mail addresses, and personally identifiable information, will be made public. Do not send proprietary, commercial, financial, business confidential, trade secret or personal information that should not be made public.

SUPPLEMENTARY INFORMATION: During the summer months of 2005, Hurricanes Katrina and Rita dramatically impacted the lives of over four million people across nearly 93,000 square miles of the Gulf Coast region. The hurricanes and subsequent flooding resulted in the evacuation of New Orleans, marking the first time a major American city has been completely evacuated. Beginning with landfall on August 29, hundreds of thousands of individuals had immediate needs for food, housing, medical care, and other critical health and human services. Due to the conditions immediately following the hurricanes, however, many of these individuals lacked the ability or resources necessary to access in a timely and efficient manner much needed local, State and Federal benefit programs and services that were available to them.

To rectify this, the White House detailed recommendations in The Federal Response to Hurricane Katrina: Lessons Learned to refine the disaster readiness and response capabilities of nearly all Federal agencies. For one task in particular, the Department of Health and Human Services was assigned to improve the delivery of assistance to disaster victims by developing a simple, comprehensive and efficient system designed to maximize the ease of health and human services benefit delivery. The system would also have safeguards against fraud and it could be used to help track movements of displaced victims.

To do so, HHS is soliciting information regarding approaches for establishing a system by which victims of disasters can access multiple benefits and services in a secure and confidential way through magnetic stripe cards, smart cards, biometrics, or other innovative methods. HHS is interested in the views and recommendations of individuals and organizations on the best way to develop this capability, with particular regard to receiving information on the creation of systems that incorporate magnetic stripe cards, smart cards, biometrics, and other innovative tools or software to streamline benefits delivery. HHS encourages all potentially interested parties—individuals, consumer groups, associations, governments, non-governmental organizations, and commercial entities—to respond. To facilitate review of the responses we ask respondents to reference the question number with their response.

The purpose of this request for information is to elicit comments and ideas on how to deliver to victims of disaster streamlined access to Federal, State and local health and human services benefits and services for which they qualify.

Questions for Response

1. Current Programs

a. What are the key features of Federal-, State-, and locally-implemented variations of EBT systems already in place?

i. What types of EBT tools are being used (e.g., magnetic stripe cards, smart cards, electronic funds transfers, biometrics, or other innovative methods)?

ii. What types of benefits are being provided through these systems (e.g., income support, medical care, food and nutrition, social insurance, education, child care, loans, unemployment compensation, and housing assistance)?

iii What information about individuals accessing services could be obtained through the EBT tool (e.g. name, address)?

b. How are these systems managed?

i. How could an emergency EBT system interface with existing state systems?

ii. What governance structure is appropriate for this system?

iii. Who are the interested parties?

iv. How should interested parties interact? What are their roles and responsibilities?

v. What internal controls should be in place to monitor program abuses and minimize program fraud?

c. What previous efforts have been made at the Federal, State or local government levels to consolidate the delivery of multiple benefits and services, and what was learned from those experiences?

2. Feasibility of Emergency EBT System

a. How would it be possible for individuals who are victims of disasters to receive benefits from multiple programs at a single relief facility?

b. What benefits—Federal, State and local—could be included? How could a person get access to services that are not direct cash benefits (e.g., education, medical care, mental health services or child care)?

c. How could the system be used for short-term benefits immediately following a disaster?

d. What are the training and staffing requirements for implementation of a multiple program EBT delivery system for victims of disasters?

e. What regional differences or state-specific differences in EBT systems are there that need to be factored in? How would questions of system interoperability or differences in state benefit systems be addressed?

f. How should an EBT system for the delivery of multiple program benefits and services be developed and financed?

i. What resources—financial and infrastructure related—would be required? What would be the most expensive elements of such an EBT system?

ii. What would be the estimated cost of developing and implementing an EBT system for cross-cutting human services programs?

iii. How should such a service delivery system be sustained in future years in terms of cost sharing?

g. What should be available, that is currently not available, to provide an efficient delivery system?

h. What ownership issues, if any, arise from the model system you propose? How should these be resolved?

3. Design Requirements

a. What technical standards should be used? What are appropriate technical performance standards? What industry standards are currently in place?

b. What transaction interfaces should be assumed?

c. What platforms now exist? How could these existing platforms be made compatible with existing point of service systems?

d. How could this benefit system be created from existing benefit structures, e.g., an aggregation of existing Federal, State, and locally-administered benefit and services programs? What are the advantages and disadvantages of such an approach?

e. What is the potential for interoperability with existing Federal, State and local electronic benefit and service delivery systems where these exist?

f. What types of information are relevant, necessary, or useful to ensuring benefits are delivered quickly to eligible victims?

g. What approaches would you recommend for monitoring the utilization of benefits by displaced victims to ensure they continue to receive benefits to which they are entitled?

h. What back-up or contingency plans can be implemented if there is no electricity or if the system fails? What contingency plans are in place with existing systems?

i. Across multiple programs, particular benefits and services may run out (i.e. an individual's eligibility for particular benefits may be time limited). How would this be handled?

j. What is the universe of benefits that could be included in such a system?

4. Security and Enforcement

a. What administrative, technical, and physical security approaches should used?

b. What enforcement mechanisms would be appropriate to ensure against fraud?

c. How would an EBT operator ensure that benefits and services were actually provided to the right individuals without incurring costly and labor intensive verification procedures?

i. What safeguards could be incorporated to prevent fraud?

ii. How could the delivery mechanism be invalidated if stolen, lost, or otherwise compromised?

iii. What measures could be put in place to avoid duplicate participation or overpayment?

d. How can HHS ensure that it does not pay for services rendered to an unauthorized person or for services that are not authorized?

e. Who should be responsible for enforcing the rules associated with use of the EBT system?

f. What legal requirements for privacy or confidentiality would apply to the information to be collected for benefit programs, and how should they be addressed in the system?

g. What other privacy considerations should be incorporated into system design and implementation?

5. EBT Delivery Requirements

a. How can benefits be made available to those they are intended to help as quickly as they would be needed?

i. How could benefits be made available that do not depend on whether victims move to other states after being displaced from their homes? If that is not possible, how could displaced victims access their benefits if they have moved to other states?

ii. Who do the benefit programs, or other law, authorize to act on behalf of other individuals (beneficiaries), e.g., legal guardians, etc? Are there other persons who should be so authorized? How may such authority be established?

iii. Can organizations (e.g., HHS grantee sites) receive EBT benefits on behalf of eligible individuals?

b. What rights and responsibilities should individuals have with respect to getting and using benefits and services?

c. Are there legal impediments that a provider of services must comply with or overcome before implementing a benefits delivery system?

d. What should be the role of the Federal government in facilitating the development of this system?

e. Can benefits be provided at HHS grantee sites where individuals may initially receive services? What would be needed to equip HHS grantees with such capabilities?

f. If devices that beneficiaries need to carry (such as magnetic stripe cards or smart cards) are used, what are the options for the distribution of such EBT tools?

g. What type of case management—related to use of and problems with the EBT system—would be needed for individuals receiving benefits through such a system? What consumer education is needed for beneficiaries?

g. What rights and responsibilities should be assigned to those responsible for distributing and monitoring the use of the benefits?

h. What kind of training and public information program would be needed?

i. What technical support needs to be provided?

j. What provisions should there be for a help desk for providers and recipients and the replacement of lost or stolen cards/documentation or other help that might be needed?

6. EBT Pilot Testing

a. Who should be responsible for managing any pilot of the system?

b. Could an EBT system be installed and tested in medical, financial, and retail environments without disrupting current systems and operations?

c. What requirements are appropriate for a pilot program?

i. How long would it take to set up the pilot; how long should it run?

ii. What should be the scale of such a test?

iii What resources would be required? How much would it cost?

iv. What technical support would be required?

v. How should the pilot be evaluated?

Please feel free to add any other comments, suggestions or creative ideas to your response.

Issued on June 9, 2006.
Charles Havekost,
Deputy Assistant Secretary for Information Technology and Chief Information Officer.

[FR Doc. E6-9314 Filed 6-13-06; 8:45 am]

BILLING CODE 4150-05-P \